DEPARTMENT OF THE INTERIOR

Fish and Wildlife Service

[FWS-R3-ES-2012-N247; FX3ES11130300000D2-123-FF03E00000]

Information Collection Request Sent to the Office of Management and Budget (OMB) for Approval; Bald Eagle Post-delisting Monitoring

AGENCY: Fish and Wildlife Service, Interior.

ACTION: Notice; request for comments.

SUMMARY: We (U.S. Fish and Wildlife Service) have sent an Information Collection Request (ICR) to OMB for review and approval. We summarize the ICR below and describe the nature of the collection and the estimated burden and cost. This information collection is scheduled to expire on November 30, 2012. We may not conduct or sponsor and a person is not required to respond to a collection of information unless it displays a currently valid OMB control number. However, under OMB regulations, we may continue to conduct or sponsor this information collection while it is pending at OMB.

DATES: You must submit comments on or before November 26, 2012.

ADDRESSES: Send your comments and suggestions on this information collection to the Desk Officer for the Department of the Interior at OMB-OIRA at (202) 395-5806 (fax) or OIRA_Submission@omb.eop.gov (email). Please provide a copy of your comments to the Service Information Collection Clearance Officer, U.S. Fish and Wildlife Service, MS 2042-PDM, 4401 North Fairfax Drive, Arlington, VA 22203 (mail), or INFOCOL@fws.gov (email). Please include “1018-0143” in the subject line of your comments.

FOR FURTHER INFORMATION CONTACT: To request additional information about this ICR, contact Hope Grey at INFOCOL@fws.gov (email) or 703-358-2482 (telephone). You may review the ICR online at http://www.reginfo.gov. Follow the instructions to review Department of the Interior collections under review by OMB.

SUPPLEMENTARY INFORMATION: OMB Control Number: 1018-0143.

Title: Bald Eagle Post-delisting Monitoring.

Type of Request: Extension of a currently approved collection.

Description of Respondents: States, tribes, and local governments; Federal land managers; and nongovernmental partners.

Respondent's Obligation: Voluntary.

Frequency of Collection: Once every 5 years.

Note: For each 5-year survey, we estimate a total of 48 respondents will provide 48 responses totaling 1,478 burden hours. The burden estimates below are annualized over the 3-year period of OMB approval.

Estimated Annual Number of Respondents: 16.

Estimated Total Annual Responses: 16.

Estimated Time per Response: 30.8 hours.

Estimated Total Annual Burden Hours: 493.

Abstract: This information collection implements the requirements of the Endangered Species Act (16 U.S.C. 1531 et seq.) (ESA). There are no corresponding Service regulations for the ESA's post-delisting monitoring requirement.

The bald eagle (Haliaeetus leucocephalus) in the lower 48 States was removed from the List of Endangered and Threatened Wildlife (delisted) on August 8, 2007 (72 FR 37346, July 9, 2007). Section 4(g) of the ESA requires that all species that are recovered and removed from the List of Endangered and Threatened Wildlife be monitored in cooperation with the States for a period of not less than 5 years. The purpose of this requirement is to detect any failure of a recovered species to sustain itself without the protections of the ESA. We work with relevant Federal, State, and tribal entities, and other species experts to develop plans and procedures for systematically monitoring recovered wildlife and plants after a species is delisted. The bald eagle has a large geographic distribution that includes a substantial amount of non-Federal land. Although the ESA requires that monitoring of recovered species be conducted for not less than 5 years, the life history of bald eagles is such that it is appropriate to monitor this species for a longer period of time in order to meaningfully evaluate whether or not the bald eagle continues to maintain its recovered status.

We plan to monitor the status of the bald eagle in the 48 contiguous States by collecting data on nests over a 20-year period with sampling events held once every 5 years. The Post-delisting Monitoring Plan for the Bald Eagle (Plan) describes monitoring procedures and methods. The Plan is available at http://www.fws.gov/midwest/eagle/protect/FINAL_BEPDM11May2010.pdf. We will use the monitoring data to review the status of the bald eagle in the United States and determine if it remains recovered and, therefore, does not require the protections of the ESA.

Comments: On June 7, 2012, we published in the Federal Register (77 FR 33765) a notice of our intent to request that OMB renew approval for this information collection. In that notice, we solicited comments for 60 days, ending on August 6, 2012. We received one comment. The commenter objected to the removal of the bald eagle from the endangered species list, but did not address the information collection requirements. We did not make any changes to our requirements based on this comment.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: October 19, 2012.
Tina A. Campbell,
Chief, Division of Policy and Directives Management, U.S. Fish and Wildlife Service.

[FR Doc. 2012-26260 Filed 10-24-12; 8:45 am]

BILLING CODE 4310-55-P